FEDERAL COMMUNICATIONS COMMISSION

[OMB 3060-1271; FRS 17195]

Information Collection Approved by the Office of Management and Budget

AGENCY: Federal Communications Commission.

ACTION: Notice.

SUMMARY: The Federal Communications Commission (Commission) has received Office of Management and Budget (OMB) approval for a revision of a currently approved information collection pursuant to the Paperwork Reduction Act (PRA) of 1995. An agency may not conduct or sponsor a collection of information unless it displays a currently valid OMB control number, and no person is required to respond to a collection of information unless it displays a currently valid OMB control number. Comments concerning the accuracy of the burden estimates and any suggestions for reducing the burden should be directed to the person listed in the FOR FURTHER INFORMATION CONTACT section.

FOR FURTHER INFORMATION CONTACT: Nicole Ongele at (202) 418-2991 or via email: Nicole.Ongele@fcc.gov.

SUPPLEMENTARY INFORMATION: OMB Control Number: 3060-1271.

OMB Approval Date: October 7, 2020.

OMB Expiration Date: October 31, 2023.

Title: Promoting Telehealth for Low-Income Consumers; COVID-19 Telehealth Program.

Form No.: FCC Forms 460, 461, 462, and 463.

Respondents: Business or other for-profit; Not-for-profit institutions; Federal Government; and State, Local, or Tribal governments.

Number of Respondents and Responses: 7,300 respondents; 34,623 responses.

Estimated Time per Response: 0.30-25 hours.

Frequency of Response: One-time and annual reporting requirements.

Total Annual Burden: 198,347 hours.

Total Annual Cost: No Cost.

Obligation to Respond: Required to obtain or retain benefits. Statutory authority for this collection of information is contained in sections 1-4, 201-205, 214, 254, 303(r), and 403 of the Communications Act of 1934, as amended, 47 U.S.C. 151-154, 201-205, 214, 254, 303(r), and 403, and Division B of the Coronavirus Aid Relief, and Economic Security (CARES) Act, Public Law 116-136, 134 Stat. 281 (2020).

Privacy Act Impact Assessment: No Impact(s).

Nature and Extent of Confidentiality: There is no assurance of confidentiality provided to respondents concerning this information collection. Information submitted on Rural Health Care Program FCC Forms for the Connected Care Pilot Program is subject to public inspection and is used by the Universal Service Administrative Company (USAC) to update and expand the Connected Care Pilot Program dataset as part of its Open Data Platform. However, respondents may request materials or information submitted to the Commission or to USAC be withheld from public inspection under 47 CFR 0.459 of the Commission's rules.

Needs and Uses: The revision to this collection will assist eligible health care providers to provide connected care services to consumers through the Programs. The Commission and USAC will use the information collected to facilitate the administration of the Programs and to determine whether applicants and participating entities are complying with the Commission's rules and to prevent waste, fraud, and abuse. This information also allows the Commission to evaluate the extent to which the Programs are adhering to the applicable rules and procedures and the Telecommunications Act or CARES Act as applicable. The Wireline Competition Bureau will issue a Public Notice announcing the opening date for the application window for the Connected Care Pilot Program.

Federal Communications Commission.
Marlene Dortch,
Secretary, Office of the Secretary.

[FR Doc. 2020-24440 Filed 11-3-20; 8:45 am]

BILLING CODE 6712-01-P